DEPARTMENT OF ENERGY

Federal Energy Regulatory Commission

Combined Notice of Filings #1

Take notice that the Commission received the following exempt wholesale generator filings:

Docket Numbers: EG19-117-000.

Applicants: Turquoise Nevada LLC.

Description: Self-Certification of EG or FC of Turquoise Nevada LLC.

Filed Date: 5/30/19.

Accession Number: 20190530-5296.

Comments Due: 5 p.m. ET 6/20/19.

Take notice that the Commission received the following electric rate filings:

Docket Numbers: ER10-2434-009; ER10-2436-009; ER10-2467-009; ER17-1666-006; ER18-1709-002.

Applicants: Fenton Power Partners I, LLC, Wapsipinicon Wind Project, LLC, Hoosier Wind Project, LLC, Red Pine Wind Project, LLC, Stoneray Power Partners, LLC.

Description: Notice of Change in Status of Fenton Power Partners I, LLC, et al.

Filed Date: 5/28/19.

Accession Number: 20190528-5207.

Comments Due: 5 p.m. ET 6/18/19.

Docket Numbers: ER10-2437-013.

Applicants: Arizona Public Service Company.

Description: Notice of Change in Status of Arizona Public Service Company.

Filed Date: 5/28/19.

Accession Number: 20190528-5130.

Comments Due: 5 p.m. ET 6/18/19.

Docket Numbers: ER17-2341-001.

Applicants: CA Flats Solar 130, LLC.

Description: Supplement to February 1, 2019 CA Flats Solar 130, LLC tariff filing (Notice of Change in Category Status).

Filed Date: 5/23/19.

Accession Number: 20190523-5216.

Comments Due: 5 p.m. ET 6/13/19.

Docket Numbers: ER18-1918-003.

Applicants: Kestrel Acquisition, LLC.

Description: Compliance filing: compliance 2019 to be effective 6/1/2018.

Filed Date: 5/30/19.

Accession Number: 20190530-5236.

Comments Due: 5 p.m. ET 6/20/19.

Docket Numbers: ER18-2399-001; ER18-1990-001.

Applicants: Canal Generating LLC, Stonepeak Kestrel Energy Marketing LLC.

Description: Notice of Change in Status of Canal Generating LLC, et al.

Filed Date: 5/30/19.

Accession Number: 20190530-5324.

Comments Due: 5 p.m. ET 6/20/19.

Docket Numbers: ER19-1155-001.

Applicants: Black Hills Electric Generation, LLC.

Description: Compliance filing: Compliance Filing to be effective 4/29/2019.

Filed Date: 5/30/19.

Accession Number: 20190530-5045.

Comments Due: 5 p.m. ET 6/20/19.

Docket Numbers: ER19-1530-001.

Applicants: Horizon West Transmission, LLC.

Description: Tariff Amendment: Horizon West Transmission, LLC Amendment to Notice of Succession to be effective 3/13/2019.

Filed Date: 5/28/19.

Accession Number: 20190528-5117.

Comments Due: 5 p.m. ET 6/18/19.

Docket Numbers: ER19-1179-000.

Applicants: AES ES Gilbert, LLC.

Description: Report Filing: AES ES Gilbert, LLC Refund Report to be effective N/A.

Filed Date: 5/30/19.

Accession Number: 20190530-5190.

Comments Due: 5 p.m. ET 6/20/19.

Docket Numbers: ER19-1990-000.

Applicants: Grand River Dam Authority.

Description: Request for Limited Waiver, et al. of Grand River Dam Authority.

Filed Date: 5/24/19.

Accession Number: 20190524-5268.

Comments Due: 5 p.m. ET 6/7/19.

Docket Numbers: ER19-1996-000.

Applicants: Oklahoma Gas and Electric Company.

Description: § 205(d) Rate Filing: Revisions to Power Sales Tariff to be effective 5/29/2019.

Filed Date: 5/28/19.

Accession Number: 20190528-5114.

Comments Due: 5 p.m. ET 6/18/19.

Docket Numbers: ER19-1997-000.

Applicants: Southern California Edison Company.

Description: § 205(d) Rate Filing: First Amended LGIA sPower, Antelope Expansion, San Pablo Raceway, Big Sky North to be effective 5/30/2019.

Filed Date: 5/28/19.

Accession Number: 20190528-5118.

Comments Due: 5 p.m. ET 6/18/19.

Docket Numbers: ER19-1998-000.

Applicants: PJM Interconnection, L.L.C.

Description: § 205(d) Rate Filing: Amendment to ISA & 4 WMPAs #3175, 3203, 3257, 3276, 3503 RE: Marina to GSRP to be effective 8/25/2014.

Filed Date: 5/28/19.

Accession Number: 20190528-5119.

Comments Due: 5 p.m. ET 6/18/19.

Docket Numbers: ER19-1999-000.

Applicants: Public Service Company of Colorado.

Description: § 205(d) Rate Filing: PSCo-TSGT-Non-Conf BASA-409-0.2.0-NOC to be effective 5/1/2019.

Filed Date: 5/30/19.

Accession Number: 20190530-5000.

Comments Due: 5 p.m. ET 6/20/19.

Docket Numbers: ER19-2000-000.

Applicants: Citizens Sunrise Transmission LLC.

Description: § 205(d) Rate Filing: Annual Operating Cost True-Up Adjustment Informational Filing to be effective 6/1/2019.

Filed Date: 5/30/19.

Accession Number: 20190530-5028.

Comments Due: 5 p.m. ET 6/20/19.

Docket Numbers: ER19-2001-000.

Applicants: Midcontinent Independent System Operator, Inc.

Description: § 205(d) Rate Filing: 2019-05-30_SA 3046 IPL-MEC 1st Rev GIA (J455) to be effective 5/13/2019.

Filed Date: 5/30/19.

Accession Number: 20190530-5049.

Comments Due: 5 p.m. ET 6/20/19.

Docket Numbers: ER19-2002-000.

Applicants: Midcontinent Independent System Operator, Inc.

Description: § 205(d) Rate Filing: 2019-05-30_SA 3181 Glaciers Edge-MidAmerican 1st Rev GIA (J506) to be effective 5/15/2019.

Filed Date: 5/30/19.

Accession Number: 20190530-5056.

Comments Due: 5 p.m. ET 6/20/19.

Docket Numbers: ER19-2003-000.

Applicants: Midcontinent Independent System Operator, Inc.

Description: § 205(d) Rate Filing: 2019-05-30_SA 3305 NSPM-GRE T-T (Medina) to be effective 6/1/2019.

Filed Date: 5/30/19.

Accession Number: 20190530-5124.

Comments Due: 5 p.m. ET 6/20/19.

Docket Numbers: ER19-2004-000.

Applicants: Alabama Power Company.

Description: § 205(d) Rate Filing: Mitchell County Solar LGIA Filing to be effective 5/14/2019.

Filed Date: 5/30/19.

Accession Number: 20190530-5175.

Comments Due: 5 p.m. ET 6/20/19.

Docket Numbers: ER19-2005-000.

Applicants: Wildhorse Wind Energy, LLC.

Description: Baseline eTariff Filing: Application for MBR Authority and Initial Baseline Tariff Filing to be effective 8/1/2019.

Filed Date: 5/30/19.

Accession Number: 20190530-5186.

Comments Due: 5 p.m. ET 6/20/19.

Docket Numbers: ER19-2005-001.

Applicants: Wildhorse Wind Energy, LLC.

Description: Tariff Amendment: Amendment to MBR Authority Application and Initial Baseline Tariff Filing to be effective 8/1/2019.

Filed Date: 5/30/19.

Accession Number: 20190530-5322.

Comments Due: 5 p.m. ET 6/20/19.

Docket Numbers: ER19-2006-000.

Applicants: Appalachian Power Company, PJM Interconnection, L.L.C.

Description: § 205(d) Rate Filing: APCo submits Interconnection Agreement SA No. 5363 (IA) to be effective 6/1/2019.

Filed Date: 5/30/19.

Accession Number: 20190530-5213.

Comments Due: 5 p.m. ET 6/20/19.

Docket Numbers: ER19-2007-000.

Applicants: Alabama Power Company.

Description: § 205(d) Rate Filing: Amendment of Southern's Tariff Vol. No. 4 to Revise Seller Category for APCo to be effective 8/1/2019.

Filed Date: 5/30/19.

Accession Number: 20190530-5216.

Comments Due: 5 p.m. ET 6/20/19.

Docket Numbers: ER19-2008-000.

Applicants: Louisiana Generating LLC.

Description: Request of Louisiana Generating LLC to recover costs associated with acting as a Local Balancing Authority under MISO Tariff.

Filed Date: 5/30/19.

Accession Number: 20190530-5220.

Comments Due: 5 p.m. ET 6/20/19.

Docket Numbers: ER19-2009-000.

Applicants: PacifiCorp.

Description: Tariff Cancellation: Termination of ESM Construction Agreement—Sigurd to be effective 7/30/2019.

Filed Date: 5/30/19.

Accession Number: 20190530-5299.

Comments Due: 5 p.m. ET 6/20/19.

Docket Numbers: ER19-2010-000.

Applicants: Dominion Energy South Carolina, Inc.

Description: § 205(d) Rate Filing: DESC-DOE Tritium Relocation Agr As Amended to be effective 5/31/2019.

Filed Date: 5/30/19.

Accession Number: 20190530-5301.

Comments Due: 5 p.m. ET 6/20/19.

Docket Numbers: ER19-2012-000.

Applicants: Illinois Power Marketing Company.

Description: Tariff Cancellation: 2013 SSR Notice of Cancellation to be effective 1/1/2014.

Filed Date: 5/30/19.

Accession Number: 20190530-5376.

Comments Due: 5 p.m. ET 6/20/19.

Docket Numbers: ER19-2013-000.

Applicants: Illinois Power Marketing Company.

Description: Tariff Cancellation: 2014 SSR Notice of Cancellation to be effective 1/1/2015.

Filed Date: 5/30/19.

Accession Number: 20190530-5377.

Comments Due: 5 p.m. ET 6/20/19.

Docket Numbers: ER19-2014-000.

Applicants: Illinois Power Marketing Company.

Description: Tariff Cancellation: 2015 SSR Notice of Cancellation to be effective 1/1/2016.

Filed Date: 5/30/19.

Accession Number: 20190530-5379.

Comments Due: 5 p.m. ET 6/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2019.
Nathaniel J. Davis, Sr.,
Deputy Secretary.

[FR Doc. 2019-11696 Filed 6-4-19; 8:45 am]

BILLING CODE 6717-01-P